DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by May 24, 2024. Written comments and recommendations for the proposed information collection should be submitted, identified by docket number 0535-0264, within 30 days of the publication of this notice by any of the following methods:

• Email: ombofficer@nass.usda.gov. Include docket number above in the subject line of the message.

• E-fax: 855-838-6382.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336 South Building, 1400 Independence Avenue SW, Washington, DC 20250-2024.

An agency may not conduct or sponsor a collection of information unless the collection of information displays a currently valid OMB control number and the agency informs potential persons who are to respond to the collection of information that such persons are not required to respond to the collection of information unless it displays a currently valid OMB control number.

National Agricultural Statistics Service

Title: Hawaii Agricultural Theft Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of agricultural operations in Hawaii. Each selected farmer or rancher will be asked to provide data on (1) Number and value of theft, vandalism, and trespassing incidents in 2024, (2) How many incidents were reported and acted on, and (3) How much was spent to reduce future incidents along with effectiveness.

General authority for these data collection activities is granted under U.S.C. Title 7, Section 2204. This survey will be conducted on a full cost recovery basis with the Hawaii Department of Agriculture.

Need and Use of the Information: Interest in this topic has been expressed by producers along with a possible program to reduce agricultural theft/vandalism/trespassing. Hawaii farmers and ranchers will benefit from this survey by having statistically defensible estimates of theft/vandalism/trespassing from 2024 at the local level. The Hawaii Department of Agriculture (HDOA) has entered into a cooperative agreement with NASS to conduct an Agricultural Theft Survey. The purpose of this survey is to ascertain the extent of loss from theft or vandalism in calendar year 2024.

Description of Respondents: Farmers.

Number of Respondents: 1,500.

Frequency of Responses: Reporting: Once a year.

Total Burden Hours: 420.

Levi S. Harrell,
Departmental Information Collection Clearance Officer.

[FR Doc. 2024-08694 Filed 4-23-24; 8:45 am]

BILLING CODE 3410-20-P